DEPARTMENT OF ENERGY

Federal Energy Regulatory Commission

[Docket No. AD20-21-000]

Notice of Availability of Final Engineering Guidelines for the Evaluation of Hydropower Projects: Chapter 16—Part 12D Program

The staff of the Federal Energy Regulatory Commission (FERC or Commission) has prepared a final “Chapter 16—Part 12D Program” of its Engineering Guidelines for the Evaluation of Hydropower Projects (Guidelines). This chapter is one of four new chapters of the Guidelines intended to provide additional guidance related to 18 CFR part 12, Safety of Water Power Projects and Project Works, Docket No. RM20-9-000, Order No 880, issued by the Commission on December 16, 2021.

On July 16, 2020, the Commission issued a Notice of Proposed Rulemaking (NOPR) to revise its part 12 regulations. On the same day, the Commission solicited public review and comment on four new draft chapters of its Guidelines. Draft Chapter 16 was part of that issuance.

The Commission received twelve comment letters in response to draft Chapter 16. Most of the comments were submitted by licensees and individuals through trade associations, including National Hydropower Association, Dam Safety Interest Group of CEATI International, and US Society on Dams, as well as the US Army Corps of Engineers. Comments were also received from individual licensees, corporations, and individuals, including David L. Mathews, McMillen Jacobs Associates, City of North Little Rock Electric, Kodiak Electric Association, Alaska Electric Light and Power Company, Central Nebraska Public Power and Irrigation District, Copper Valley Electric Association, and Upper Peninsular Power Company.

In all, the twelve comment letters consisted of approximately 335 discrete comments. The comments received were varied. Most comments requested clarification of scope, schedule requirements, and other details of the Part 12D process and procedures. Commenters asked the Commission to:

• Provide additional guidance and clarification regarding the Part 12D process, schedule, and review durations;

• Clarify the difference between a Comprehensive Assessment waiver and a Part 12D exemption;

• Consider deleting the requirement to submit a Pre-inspection Preparation Report since this task adds additional burden and cost of performing a Part 12D report;

• Provide additional guidance regarding the limitations of the Independent Consultant Team and the Licensee to communicate and review the draft Part 12D recommendations;

• Provide clarification that limits the Independent Consultant team from reviewing their own prior work on the project;

• Provide additional guidance and explanation of the Independent Consultant Team qualifications and experience requirements;

• Clarify the role of the Independent Consultant versus the role of the Potential Failure Mode Analysis/Risk Analysis facilitator;

• Clarify the potential postponement of the site inspection due to submittal of an insufficient Pre-inspection Preparation Report;

• Clarify the review requirements of the Owner's Dam Safety Program (ODSP) and how that review differs from an ODSP audit;

• Clarify what is expected of the Independent Consultant Team in performing independent calculations as part of the Comprehensive Assessment Report;

• Clarify the scope of work for the physical site inspection, including spillway gate testing and inspection of inaccessible features; and

• Include additional information on the purpose of the Comprehensive Assessment Review Meeting or, in the alternative, consider deleting this requirement.

Commission staff has considered all comments in finalizing Chapter 16 of the Engineering Guidelines. Based on the comments received, Chapter 16 has been revised to:

• Provide additional guidance on:

○ The Part 12D process and schedule;

○ the limitations of an individual performing consecutive inspections, including Periodic Inspections following Comprehensive Assessments;

○ the submittal of information for supporting Independent Consultant Team members;

○ the review status of Pre-inspection Preparation Reports;

○ the review requirements of the ODSP;

○ the scope of the physical site inspection;

○ the evaluation of spillway adequacy;

○ the summary of findings for the Comprehensive Assessment Report; and

○ the purpose of the Comprehensive Assessment Review Meeting.

• Remove the requirement that the Potential Failure Mode Analysis/Risk Analysis facilitator must be from a different organization or company than the Independent Consultant Team; and

• Update the appendices, as appropriate.

All information related to “Chapter 16—Part 12D Program,” including the draft chapter, all submitted comments, and the final chapter, can be found on the FERC website (www.ferc.gov) using the eLibrary link. Click on the eLibrary link, click on “General Search” and enter the docket number, excluding the last three digits in the Docket Number field (i.e., AD20-21). Be sure you have selected an appropriate date range. The Commission also offers a free service called eSubscription which allows you to keep track of all formal issuances and submittals in specific dockets. This can reduce the amount of time you spend researching proceedings by automatically providing you with electronic notification of these filings and direct links to the documents. Go to the Commission's website (www.ferc.gov), select the FERC Online option from the left-hand column, and click on eSubscription. Users must be registered in order to use eSubscription.

The final version of Chapter 16 is also available on the Commission's Division of Dam Safety and Inspections website at: Engineering Guidelines for the Evaluation of Hydropower Projects | Federal Energy Regulatory Commission (ferc.gov).

Information Collection Statement

Chapter 16 includes information collection activities for which the Paperwork Reduction Act, 44 U.S.C. 3501-3521, requires approval by the Office of Management and Budget (OMB). The Commission has included the burden and cost estimates for information collection activities related to this chapter in the rulemaking document (Docket No. RM20-9-000, Order No. 880). The Commission has designated the information collection activities in the rule as FERC-517. Upon final approval of FERC-517, OMB will assign an OMB Control Number and expiration date.

Send written comments on FERC-517 to the Office of Management and Budget (OMB) through www.reginfo.gov/public/do/PRAMain, Attention: Federal Energy Regulatory Commission Desk Officer. Please identify the OMB control number (1902-TBD) in the subject line. Your comments should be sent within 30 days of publication of this notice in the Federal Register. OMB submissions must be formatted and filed in accordance with submission guidelines at www.reginfo.gov/public/do/PRAMain. Using the search function under the “Currently Under Review field,” select Federal Energy Regulatory Commission; click “submit” and select “comment” to the right of the subject collection.

For assistance with any of the Commission's online systems, please contact FERC Online Support at FercOnlineSupport@ferc.gov or toll free at (866) 208-3676, or for TTY, contact (202) 502-8258.

Dated: December 16, 2021.
Kimberly D. Bose,
Secretary.

[FR Doc. 2021-27777 Filed 12-22-21; 8:45 am]

BILLING CODE 6717-01-P